DEPARTMENT OF AGRICULTURE

Cooperative State Research, Education, and Extension Service

Notice of Intent To Establish an Information Collection

AGENCY: Cooperative State Research, Education, and Extension Service, USDA.

ACTION: Notice and request for comments.

SUMMARY: In accordance with the Office of Management and Budget (OMB) regulations (5 CFR 1320) that implement the Paperwork Reduction Act of 1995 (44 U.S.C. Chapter 35), this notice announces the Cooperative State Research, Education, and Extension Service's (CSREES) intention to request approval to establish an information collection for the 4-H Youth Development Annual Enrollment Report.

DATES: Written comments on this notice must be received by December 3, 2004 to be assured of consideration. Comments received after that date will be considered to the extent practicable.

ADDRESSES: Written comments concerning this notice may be mailed to Jason Hitchcock, E-Government Program Leader, Information Systems and Technology Management, CSREES, USDA, STOP 2216, 1400 Independence Avenue, SW., Washington, DC 20250-2216 or sent electronically to: jhitchcock@csrees.usda.gov.

FOR FURTHER INFORMATION CONTACT: To request a copy of the information collection, contact Jason Hitchcock at (202) 720-4343; facsimile at (202) 720-0857; or electronically at: jhitchcock@csrees.usda.gov.

SUPPLEMENTARY INFORMATION: Title: 4-H Youth Development Annual Enrollment Report.

OMB Number: 0524-NEW.

Expiration Date of Current Approval: Not applicable.

Type of Request: Intent to seek approval to establish an information collection for three years.

Abstract: As early as 1902 USDA Demonstration field staff and progressive educators around the country began to work with groups of young rural boys and girls in practical applications of research knowledge through hands-on agricultural and home economics-related subjects which evolved into 4-H. Over time, 4-H became the largest non-formal youth development program in the country, and has remained so.

4-H is a complex national organization, involving the National 4-H Headquarters, CSREES, USDA, and hundreds of educational curricula, activities, and events for youth K through 12th grade. Programs originate at 105 land-grant universities, and local programs are conducted and managed by some 4,000 professional Extension staff in 3,050 counties, with nearly seven million youth enrolled each year. Nearly 600,000 volunteer leaders work directly with the 4-H youth. The Annual 4-H Enrollment Report is the principal means by which the 4-H movement keeps track of its progress, as well as emerging needs, potential problems and opportunities.

The evaluation processes of 4-H are consistent with the requirements of Congressional legislation and OMB. The Government Performance and Results Act of 1993 (GPRA) (Pub. L. 103-62), the Federal Activities Inventory Reform Act of 1998 (FAIR Act) (Pub. L. 105-270), and the Agricultural, Research, Extension and Education Reform Act of 1998 (AREERA)(Pub. L. 105-185), together with OMB requirements, support the reporting requirements requested in this information collection. One of the five Presidential Management Agenda initiatives, Budget and Performance Integration, builds on GPRA and earlier efforts to identify program goals and performance measures, and link them to the budget process. The FAIR Act requires the development and implementation of a system to monitor and evaluate agricultural research and extension activities in order to measure the impact and effectiveness of research, extension, and education programs. AREERA requires a performance evaluation to be conducted to determine whether federally funded agricultural research, extension, and education programs result in public goods that have national or multi-state significance.

All of the information necessary to run the county-level 4-H program is collected by the county from individuals, Clubs, and other Units. It is maintained electronically at the County 4-H offices in cumulative individual and Club electronic records within the County 4-H program management software system. Annually each county sends their State 4-H office an electronic aggregated summary of their 4-H enrollment.

One professional 4-H staff member in each State or Territory annually uses their program management software to electronically aggregate the 4-H enrollment for their State or Territory into a standardized format in a database flat file. Only certain categories from the flat file are forwarded to CSREES. None of the aggregated summary information collected by CSREES contains sensitive information of an individual nature.

Estimate of Burden: Each year, the State 4-H office aggregates all electronic County 4-H enrollment reports into the State 4-H enrollment report, and transmits it electronically to CSREES. The applicable Territories similarly transmit aggregated information. This requirement constitutes the Federal burden CSREES imposes on the States and Territories and is the only burden measured and accounted for in this estimate. CSREES estimates that it takes one State or Territory 31 hours to aggregate the local level information and transmit the summary information to CSREES. There are a total of 57 responses annually, thus constituting a total annual estimated burden of 1,767 hours for this information collection.

Comments: Comments are invited on: (a) Whether the proposed collection of information is necessary for the proper performance of the functions of the Agency, including whether the information will have practical utility; (b) the accuracy of the Agency's estimate of the burden of the proposed collection of information; (c) ways to enhance the quality, utility and clarity of the information to be collected; and (d) ways to minimize the burden of the collection of information on those who are to respond, including through the use of appropriate automated, electronic, mechanical, or other technological collection techniques or other forms of information technology.

Done in Washington, DC, this 1st day of September, 2004.
Joseph J. Jen,
Under Secretary, Research, Education, and Economics.

[FR Doc. 04-21754 Filed 9-28-04; 8:45 am]

BILLING CODE 3410-22-P